FEDERAL COMMUNICATIONS COMMISSION

47 CFR Part 73

[DA 05-765; MB Docket No. 05-152; RM-11204]

Radio Broadcasting Services; Clinton and Mayfield, KY

AGENCY: Federal Communications Commission.

ACTION: Proposed rule.

SUMMARY: This document requests comments on a petition for rule making filed by Bristol Broadcasting Company, Inc. (“Petitioner”), licensee of Station WWLE(FM), Channel 271C3, Clinton, Kentucky; Station WQQR(FM), Channel 234C2, Mayfield, Kentucky; and Station WLIE-FM, Channel 232A, Golconda, Illinois. Petitioner requests that the Commission (1) reallot Channel 271C3, Station WWLE(FM), from Clinton to Mayfield, Kentucky, and upgrade the allotment of Channel 271C3 to Channel 271C2; (2) reallot Channel 234C2, Station WQQR(FM), from Mayfield to Clinton, Kentucky; and (3) allow Petitioner to relocate the transmitter site of Station WLIE-FM, Channel 232A, to avoid short spacing to proposed Channel 234C2 at Clinton, Kentucky. The coordinates for Channel 271C2 at Mayfield, Kentucky, are 36-40-36 North Latitude and 88-29-29 West Longitude, with a site restriction of 14.9 kilometers (9.2 miles) southeast of Mayfield. The coordinates for Channel 234C2 at Clinton, Kentucky, are 36-45-51 North Latitude and 88-39-55 West Longitude, with a site restriction of 31.2 kilometers (19.4 miles) east of Clinton. The coordinates for Channel 232A, Station WLIE-FM, at Golconda, Illinois, are 37-14-18 North Latitude and 88-29-40 West Longitude, with a site restriction of 14.3 kilometers (8.9 miles) south of Golconda, Illinois.

DATES: Comments must be filed on or before May 12, 2005, and reply comments on or before May 27, 2005.

ADDRESSES: Secretary, Federal Communications Commission, 445 12th Street, SW., Room TW-A325, Washington, DC 20554. In addition to filing comments with the FCC, interested parties should serve Petitioner's counsel, as follows: Clifford M. Harrington, Esq. and Veronica D. McLaughlin Tippett, Esq., Shaw Pittman LLP; 2300 N. Street, NW.; Washington, DC 20037.

FOR FURTHER INFORMATION CONTACT: R. Barthen Gorman, Media Bureau, (202) 418-2180.

SUPPLEMENTARY INFORMATION: This is a synopsis of the Commission's Notice of Proposed Rule Making, MB Docket No. 05-152, adopted March 23, 2005 and released March 25, 2005. The full text of this Commission decision is available for inspection and copying during regular business hours in the FCC's Reference Information Center at Portals II, 445 12th Street, SW., CY-A257, Washington, DC 20554. This document may also be purchased from the Commission's duplicating contractors, Best Copy and Printing, Inc., Portals II, 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, and 336.

§ 73.202 [Amended]

2. Section 73.202(b), the Table of FM Allotments under Kentucky, is amended by removing Channel 271C3 and adding Channel 234C2 at Clinton and by removing Channel 234C2 and adding Channel 271C2 at Mayfield.

Federal Communications Commission.
John A. Karousos,
Assistant Chief, Audio Division, Media Bureau.

[FR Doc. 05-7058 Filed 4-12-05; 8:45 am]

BILLING CODE 6712-01-P